DEPARTMENT OF THE INTERIOR

National Park Service

[NPS-WASO-PCE-14914; PPWOPCADD0, PPMPSPDIT.Y00000]

Notice of Availability of Draft Director's Order #46 Concerning National Park Service Policies and Procedures Governing Its Wild and Scenic Rivers Program

AGENCY: National Park Service, Interior.

ACTION: Notice of availability and request for comments.

SUMMARY: The National Park Service (NPS) has prepared a Director's Order setting forth its policies and procedures governing its Wild and Scenic Rivers (WSRs) program. When adopted, the policies and procedures will apply to all National Wild and Scenic River System responsibilities, including: (1) Designated WSRs that are part of the national park system, partnership WSRs, and rivers in NPS units with protective language similar to that of the Wild and Scenic Rivers Act in their enabling legislation; and (2) section 7 (16 U.S.C. 1278) responsibilities for State-administered components of the National Wild and Scenic Rivers System. This order also advises on responsibilities related to WSR planning studies and the Nationwide Rivers Inventory. It supersedes and replaces the policies and procedures previously issued.

DATES: Written comments will be accepted until May 16, 2014.

ADDRESSES: Draft Director's Order #46: Wild and Scenic Rivers, is available online at: www.nps.gov/policy/Draft_DO46_2014.htm. Requests for written copies of, and submission of written comments on, Draft Director's Order #46 should be sent to Joan Harn, NPS Wild and Scenic Rivers Program Co-Lead, 1201 Eye St., NW., 2240, Washington, DC 20005, or via email: joan_harn@nps.gov.

FOR FURTHER INFORMATION CONTACT: Joan Harn, River Programs Manager, at (202) 354-6929 or via email at joan_harn@nps.gov.

SUPPLEMENTARY INFORMATION: The NPS is updating its current system of internal written instructions. When these documents contain new policy or procedural requirements that may affect parties outside the NPS, they are first made available for public review and comment before being adopted. Director's Order #46 and a reference manual (subsequent to the Director's Order) will be issued. The draft Director's Order covers topics such as review of federally assisted water resources projects (i.e., section 7 of the Wild and Scenic Rivers Act); management responsibilities; planning and studies; technical support; agreements; and signage.

Public Availability of Comments: Please note that the comments submitted in response to this notice are a matter of public record. Before including your address, phone number, email address, or other personal identifying information in your comment, you should be aware that your entire comment—including your personal identifying information—may be made publicly available at any time. While you may ask us in your comment to withhold your personal identifying information from public review, we cannot guarantee that we will be able to do so.

Dated: March 25, 2014.
Richard Weideman,
Assistant Director, Partnerships and Civic Engagement, National Park Service.

[FR Doc. 2014-07161 Filed 3-31-14; 8:45 am]

BILLING CODE 4312-52-P